DEPARTMENT OF ENERGY

Federal Energy Regulatory Commission

Combined Notice of Filings #1

Take notice that the Commission received the following electric rate filings:

Docket Numbers: ER12-673-004; ER12-672-004; ER10-1908-007; ER10-1909-007; ER10-1910-007; ER10-1911-007; ER10-1533-008; ER10-2374-006; ER12-674-005; ER12-670-005.

Applicants: Brea Generation LLC, Brea Power II, LLC, Duquesne Conemaugh LLC, Duquesne Keystone LLC, Duquesne Light Company, Duquesne Power, LLC, Macquarie Energy LLC, Puget Sound Energy, Inc., Rhode Island Engine Genco, LLC, Rhode Island LFG Genco, LLC.

Description: Notice of Non-Material Change in Status of Brea Generation LLC, et al.

Filed Date: 4/2/14.

Accession Number: 20140402-5220.

Comments Due: 5 p.m. ET 4/23/14.

Docket Numbers: ER13-1857-000; EL14-3-000.

Applicants: Idaho Power Company.

Description: Response to request for additional information regarding delivered price test analysis filed on November 7, 2013 of Idaho Power Company.

Filed Date: 4/3/14.

Accession Number: 20140403-5138.

Comments Due: 5 p.m. ET 4/24/14.

Docket Numbers: ER14-1173-002.

Applicants: Duke Energy Carolinas, LLC.

Description: Defer Effective date and proceeding with NCEMC NITSA to be effective 12/31/9998.

Filed Date: 4/3/14.

Accession Number: 20140403-5100.

Comments Due: 5 p.m. ET 4/24/14.

Docket Numbers: ER14-1215-001.

Applicants: Duke Energy Carolinas, LLC.

Description: Defer Effective date and proceeding SCPSA and CEPCI NITSA to be effective 12/31/9998.

Filed Date: 4/3/14.

Accession Number: 20140403-5102.

Comments Due: 5 p.m. ET 4/24/14.

Docket Numbers: ER14-1281-001.

Applicants: Powerex Corp.

Description: Errata to Powerex FERC Rate Schedule No. 1 to be effective 4/7/2014.

Filed Date: 4/3/14.

Accession Number: 20140403-5091.

Comments Due: 5 p.m. ET 4/24/14.

Docket Numbers: ER14-1412-000.

Applicants: Midcontinent Independent System Operator, Inc., Alliant Energy Corporate Services, Inc.

Description: Amendment to March 4, 2014 Midcontinent Independent System Operator, Inc. tariff filing [IPL-RPGI DAF Agreement] of Interstate Power and Light Company.

Filed Date: 4/3/14.

Accession Number: 20140403-5108.

Comments Due: 5 p.m. ET 4/24/14.

Docket Numbers: ER14-1464-001.

Applicants: Duke Energy Carolinas, LLC.

Description: Defer Effective date and proceeding EUEMC NITSA to be effective 12/31/9998.

Filed Date: 4/3/14.

Accession Number: 20140403-5101.

Comments Due: 5 p.m. ET 4/24/14.

Docket Numbers: ER14-1648-000.

Applicants: Southwestern Public Service Company.

Description: 2014-4-2_SPS-GSEC-Elk-E&P-667-0.1.0-NOC to be effective 4/3/2014.

Filed Date: 4/2/14.

Accession Number: 20140402-5125.

Comments Due: 5 p.m. ET 4/23/14.

Docket Numbers: ER14-1649-000.

Applicants: Puget Sound Energy, Inc.

Description: Filing under the California Independent System Operator Corporation Tariff Section 39.1.6.4, Minimum Bid Price for Energy Bids of Puget Sound Energy, Inc.

Filed Date: 4/2/14.

Accession Number: 20140402-5204.

Comments Due: 5 p.m. ET 4/23/14.

Docket Numbers: ER14-1650-000.

Applicants: Public Service Company of Colorado.

Description: Notice of cancellation of three non-conforming service agreements of Southwestern Public Service Company.

Filed Date: 4/2/14.

Accession Number: 20140402-5208.

Comments Due: 5 p.m. ET 4/23/14.

Docket Numbers: ER14-1651-000.

Applicants: Public Service Company of New Hampshire.

Description: Rate Schedule No. 104 Wholesale Distribution Service for Central Maine Power Co. to be effective 6/1/2014.

Filed Date: 4/3/14.

Accession Number: 20140403-5094.

Comments Due: 5 p.m. ET 4/24/14.

Docket Numbers: ER14-1652-000.

Applicants: Southern California Edison Company.

Description: SGIA and Distribution Service Agreement with Bowerman Power LFG, LLC to be effective 4/4/2014.

Filed Date: 4/3/14.

Accession Number: 20140403-5122.

Comments Due: 5 p.m. ET 4/24/14.

Docket Numbers: ER14-1653-000.

Applicants: Southwest Power Pool, Inc.

Description: Integrated Marketplace Filing to be effective 3/1/2014.

Filed Date: 4/3/14.

Accession Number: 20140403-5125.

Comments Due: 5 p.m. ET 4/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2014.
Nathaniel J. Davis, Sr.,
Deputy Secretary.

[FR Doc. 2014-08092 Filed 4-10-14; 8:45 am]

BILLING CODE 6717-01-P